DEPARTMENT OF THE INTERIOR

Fish and Wildlife Service

[FWS-HQ-ES-2018-N145; MO# 300030113; OMB Control Number 1018-0119]

Agency Information Collection Activities; Submission to the Office of Management and Budget for Review and Approval; Policy for Evaluation of Conservation Efforts When Making Listing Decisions (PECE)

AGENCY: Fish and Wildlife Service, Interior.

ACTION: Notice of information collection; request for comment.

SUMMARY: In accordance with the Paperwork Reduction Act of 1995, we, the U.S. Fish and Wildlife Service, are proposing to renew an information collection with revisions.

DATES: Interested persons are invited to submit comments on or before December 24, 2018.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: BPHC, 5275 Leesburg Pike, Falls Church, VA 22041-3803 (mail); or by email to Info_Coll@fws.gov. Please reference OMB Control Number 1018-0119 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on February 28, 2018 (83 FR 8698). The following comments were received:

Comment 1: Letter dated April 30, 2018, from Myles P. Culhane, Assistant General Counsel, Occidental Petroleum Corporation. Received via email on April 30, 2018.

Occidental Petroleum Corporation provided comments on whether PECE is necessary to the proper functions of the Service, whether we will use the information in a timely manner, and how to enhance the information being collected. They stated that PECE is very important to encourage voluntary conservation efforts prior to listing decisions such that listing may not be necessary. They offered three suggestions to improve information collection in the context of specific listing decisions:

(1) Ensure that we are collecting the right types of information by considering what will be useful in predicting future conservation actions and results, and articulating the factors we think will inform such predictions,

(2) Ensure that we have the ability to update our listing decisions up until the last minute regarding current information about conservation efforts, and

(3) Ensure that PECE analyses are cumulative and include all qualifying conservation efforts together rather than in isolation.

FWS Response to Comment 1: The Service appreciates this comment and does consider the best available scientific and commercial information received through the public comment period, information solicitation, or other means related to conservation efforts when making listing determinations. The Service maintains that in every proposed or final listing decision, we articulate the species' needs, the threats to the species and its response to those threats, and any actions that may ameliorate or exacerbate those threats. Each particular situation is unique, but in the Service's final PECE, we articulated the non-exhaustive list of criteria that we would use to evaluate each conservation effort that did not have a track record of implementation or effectiveness. The Service is required to consider best available scientific and commercial information in making listing decisions, including information on conservation efforts that do not have a track record of implementation or effectiveness. The Service evaluates the certainty of implementation and effectiveness by considering the criteria in the PECE, and those efforts that meet the PECE standard of sufficiently certain to be implemented and effective are then evaluated in the status assessment for the species. The Service understands that stakeholders want a transparent and flexible process, and the Service is open to communication and collaboration with these stakeholders which will encourage conservation of species.

Comment 2: Letter dated April 27, 2018, from Steve Wright, General Manager, Public Utility District No. 1 of Chelan County, WA. Received via email on May, 7, 2018.

Chelan Public Utility District No. 1 commented that it finds PECE useful because it encourages aggregation of information about conservation efforts, which can provide notice to permit applicants and other entities possibly affected by a listing, both of the listing and the efforts. It can also encourage entities to participate in conservation efforts, which can be meaningful for species. It finds that encouraging conservation efforts is consistent with the ESA and benefits species.

FWS Response to Comment 2: The Service appreciates the District's comments about the utility and benefits of PECE.

We are again soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: Section 4 of the Endangered Species Act (ESA; 16 U.S.C. 1531 et seq.) outlines the process by which we can list a species as a threatened species or an endangered species. When we consider whether to list a species, the ESA requires us to take into account the efforts made by any State or any political subdivision of a State to protect such species. We also take into account the efforts made by other entities. States or other entities often formalize conservation efforts in conservation agreements, conservation plans, management plans, or similar documents. The conservation efforts recommended or described in such documents could prevent some species from becoming so imperiled that they meet the definition of a threatened species or an endangered species under the ESA.

The Policy for Evaluation of Conservation Efforts When Making Listing Decisions (PECE) (68 FR 15100, March 28, 2003) encourages the development of conservation agreements or plans and provides certainty about the standard that an individual conservation effort must meet in order for us to consider whether it is likely to make a difference in a species' status. PECE applies to “formalized conservation efforts” that have not been implemented or have been implemented but have not yet demonstrated if they are effective at the time of a listing decision.

Under PECE, formalized conservation efforts are defined as conservation efforts (specific actions, activities, or programs designed to eliminate or reduce threats or otherwise improve the status of a species) identified in a conservation agreement, conservation plan, management plan, or similar document. To assist us in evaluating a formalized conservation effort under PECE, we collect information such as conservation plans, monitoring results, and progress reports. The development of any agreement or plan is voluntary. There is no requirement that the individual conservation efforts included in such documents be designed to meet the standard in PECE. The PECE policy is posted on our Candidate Conservation website at http://www.fws.gov/endangered/esa-library/pdf/PECE-final.pdf.

We are not reporting an increase in burden with this renewal, although we revised the collection to include burden for individuals, businesses, and not-for-profit organizations who may develop agreements/plans or may agree to implement certain conservation efforts identified in a State agreement or plan. Previously, we reported all burden estimates as government, although it was possible to receive submissions from individuals and private sector respondents. This submission breaks their burden out separately, with a placeholder of one submission for each category, to account for the rare occasion that we may receive a submission from these additional respondent categories.

Title of Collection: Policy for Evaluation of Conservation Efforts When Making Listing Decisions (PECE).

OMB Control Number: 1018-0119.

Form Number: None.

Type of Review: Revision of a currently approved collection.

Respondents/Affected Public: Primarily State, local, or Tribal governments. However, individuals, businesses, and not-for-profit organizations could develop agreements/plans or may agree to implement certain conservation efforts identified in a State agreement or plan.

Respondent's Obligation: Required to Obtain or Retain a Benefit.

Frequency of Collection: On occasion.

Total Estimated Annual Nonhour Burden Cost: None.

Activity | Estimated number of annual respondents | Average number of submissions each | Estimated number of annual responses | Completion time per response (hours) | Estimated annual burden hours
PECE—Reporting
Individuals | 1 | 1 | 1 | 120 | 120
Private Sector | 1 | 1 | 1 | 120 | 120
Government | 5 | 1 | 5 | 120 | 600
PECE—Monitoring
Individuals | 1 | 1 | 1 | 600 | 600
Private Sector | 1 | 1 | 1 | 600 | 600
Government | 5 | 1 | 5 | 600 | 3,000
PECE—Development of Conservation Plan/Agreement (One-Time Burden)
Individuals | 1 | 1 | 1 | 2,000 | 2,000
Private Sector | 1 | 1 | 1 | 2,000 | 2,000
Government | 2 | 1 | 2 | 2,000 | 4,000
Totals | 18 |  | 18 |  | 13,040

An agency may not conduct or sponsor and a person is not required to respond to a collection of information unless it displays a currently valid OMB control number.

The authority for this action is the Paperwork Reduction Act of 1995 (44 U.S.C. 3501 et seq.).

Dated: November 16, 2018.
Madonna Baucum,
Information Collection Clearance Officer, U.S. Fish and Wildlife Service.

[FR Doc. 2018-25454 Filed 11-21-18; 8:45 am]

BILLING CODE 4333-15-P